DEPARTMENT OF ENERGY

Federal Energy Regulatory Commission

[Docket No. CP07-208-000]

Rockies Express Pipeline LLC; Notice of Technical Conference

February 10, 2009.

On February 17, 2009, staff of the Office of Energy Projects (OEP) will hold a technical conference for the REX East Project. Rockies Express Pipeline LLC requested the Technical Conference to discuss compliance with Environmental Condition 147 of the Commission's May 30, 2008 Order.¹

¹ Rockies Express Pipeline LLC, 123 FERC ¶ 61,234 (2008)

The technical conference will be held on Tuesday, February 17, 2009, at 1:00 p.m. (EDT) in Room 3M-2A&B at the Commission Headquarters, 888 1st Street, NE., Washington, DC.

Information concerning any changes to the above may be obtained from the Commission's Office of External Affairs at (202) 502-8004 or toll free at 1-866-208-FERC (208-3372).

Commission conferences are accessible under section 508 of the Rehabilitation Act of 1973. For accessibility accommodations please send an e-mail to accessibility@ferc.gov or call toll free 866-208-3372 (voice) or (202) 208-8659 (TTY), or send a FAX to (202) 208-2106 with the required accommodations.

Kimberly D. Bose,
Secretary.

[FR Doc. E9-3344 Filed 2-13-09; 8:45 am]

BILLING CODE 6717-01-P